DEPARTMENT OF AGRICULTURE

Commodity Credit Corporation

Natural Resources Conservation Service

Conservation Innovation Grants

AGENCY: Commodity Credit Corporation, Natural Resources Conservation Service, Department of Agriculture (USDA).

ACTION: Notice of request for proposals.

SUMMARY: Section 1240H of the Food Security Act of 1985, as added by section 2301 of the Farm Security and Rural Investment Act of 2002 (Pub. L. 107-171) established Conservation Innovation Grants (CIG) as part of the Environmental Quality Incentives Program (EQIP) (16 U.S.C. 3839aa-8). Through CIG, the Secretary of Agriculture may pay the cost of competitive grants to carry out projects that stimulate innovative approaches to leveraging Federal investment in environmental enhancement and protection in conjunction with agricultural production. The Secretary of Agriculture delegated the authority for the administration of EQIP and CIG to the Chief of the Natural Resources Conservation Service (NRCS), who is a vice president of the Commodity Credit Corporation (CCC). EQIP is administered by NRCS under the authorities of the CCC.

This notice announces the availability of up to $15 million of CCC funds for Conservation Innovation Grants in Fiscal Year 2004. The funds will be awarded through a nationwide competitive grants process. Applications are requested from eligible government or non-government organizations or individuals for competitive consideration of grant awards for single or multi-year projects. This notice sets forth the applicant and project eligibility requirements, application procedures, and grant award criteria for proposed projects.

DATES: Applications must be received in the NRCS National Office by May 28, 2004.

ADDRESSES: Written applications should be sent to Sheila Leonard, Grants and Agreements Specialist, Natural Resources Conservation Service, 14th and Independence Ave., SW., Room 5226-S, Washington, DC 20250.

FOR FURTHER INFORMATION CONTACT: Carl Lucero, Natural Resources Conservation Service, 5601 Sunnyside Avenue, Mail Stop 5473, Beltsville, MD 20705. Phone: (301) 504-2222; facsimile: (301) 504-2264; e-mail: cig@usda.gov; Subject: Conservation Innovation Grants RFP; or consult the NRCS Web site at http://www.nrcs.usda.gov/programs/farmbill/2002.

Catalog of Federal Domestic Assistance (CFDA) Number: 10.912.

SUPPLEMENTARY INFORMATION:

I. Funding Opportunity Description

A. Background

Of the nearly 1.4 billion acres of private land in the United States, 931 million, or roughly 70%, are in agriculture. The activities on these lands have a direct effect on the soil, water, air, plant, and animal resources, as well as the social, cultural, and economic condition of U.S. communities, towns, and counties. Regional and local differences in farm structure, farm practices, and farm products make delivering innovative agricultural conservation technical assistance a challenge. National agricultural research and development may not always have the capacity to develop, test, and transfer new or innovative conservation technologies and approaches rapidly or effectively to account for regional variances in the agricultural industry. Consequently, there is a need to expediently develop, test, implement, and transfer innovative farm and ranch conservation technologies and approaches for adoption in the largest applicable market available. Conservation Innovation Grants are awarded, in part, to stimulate this purpose.

B. Availability of Funding

Effective on the publication date of this notice, the CCC announces the availability of up to $15 million for CIG. The CCC, acting through NRCS, must receive applications for participation by May 28, 2004. Funds will be awarded through a nationwide competitive grants process. CIG will emphasize projects that have a goal of providing benefits over a large geographic area. These projects may be watershed-based, regional, multi-State, or nationwide in scope.

State, tribal, and local governmental entities, non-governmental organizations, and individuals may apply. Selection will be based on the criteria established in this notice, and selected applicants may receive grants of up to 50 percent of the total project cost. Applicants must provide non-Federal funding for at least 50 percent of the project cost, of which up to one-half (25 percent of the total project cost) may be from in-kind contributions. The remainder must be a cash match.

The CIG interim final rule published simultaneously with this Request for Proposals (RFP) describes the potential for implementing a State component of CIG. The intent of the State component is to provide flexibility to NRCS State Conservationists to target CIG funds to individual producers and smaller organizations that may possess promising innovations, but could not compete well on the larger scale of the national grants competition. The State component of CIG, however, will not be implemented in Fiscal Year (FY) 2004 because of continued EQIP application backlogs, the lateness of Congressional appropriations, and workload demands at the State level. The Chief retains the option of providing each State Conservationist with the discretion to implement a CIG State program in future fiscal years.

C. Overview of Conservation Innovation Grants

The CCC will accept applications for single-or multi-year projects, not to exceed three years, submitted to NRCS from eligible entities, including Federally-recognized Indian Tribes, State and local governments, and non-governmental organizations and individuals. The purpose of CIG is to stimulate the development and adoption of innovative conservation approaches and technologies while leveraging Federal investment in environmental enhancement and protection, in conjunction with agricultural production. CIG projects are expected to lead to the transfer of conservation technologies, management systems, and innovative approaches (such as market-based systems) into NRCS technical manuals or guides, or to the private sector.

Applications are solicited for the full range of natural resource conservation concerns detailed in this notice. Applications are accepted from all 50 States, the Caribbean Area (Puerto Rico and the Virgin Islands), and the Pacific Basin Area (Guam, American Samoa, and the Commonwealth of the Northern Mariana Islands).

Complete applications will be evaluated by a technical peer review panel and scored based on the Criteria for Proposal Evaluation identified in this RFP. Scored applications will be forwarded to a Grant Review Board. The Grant Review Board will make recommendations for project approval to the Chief. Final award selections will be made by the Chief.

Grant awards will be made from the NRCS National Office after the grantee agrees to the terms and conditions of the NRCS grant agreement.

II. Natural Resource Conservation Concerns

Applications should demonstrate the use of innovative technologies or innovative approaches, or both, to address a natural resource concern or concerns. It is NRCS' intention to provide flexibility to obtain the greatest degree of creativity and innovation possible in addressing natural resource concerns, consistent with the overall program objective.

The five natural resource concerns for possible funding through Conservation Innovation Grants for Fiscal Year 2004 are:

A. Water Resources

The objective of this natural resource concern is to implement new technologies and/or approaches to maintain, restore, or enhance water quality and/or quantity in watersheds with predominantly agricultural land uses while sustaining productivity. Subtopics include:

1. Nutrient, pesticide, and pathogen transport to surface water and groundwater;

2. Sediment transport to surface water;

3. Irrigation management for water conservation;

4. Aquifer recharge/maintenance of groundwater supplies; and,

5. Increased water supplies/availability through alternative treatment or reuse strategies.

B. Soil Resources

The objective of this conservation concern is to implement new technologies and/or approaches to maintain, restore, or enhance soil resources associated with agricultural and forest land uses while sustaining productivity. Subtopics include:

1. Erosion reduction;

2. Accumulation of harmful constituents in soils, including nutrients, metals, salts; and,

3. Overall soil quality and productivity.

C. Atmospheric Resources

The objective of this conservation concern is to implement new technologies and/or approaches to maintain, restore, or enhance air quality and atmospheric resources through agricultural and forest practices while sustaining productivity. Subtopics include:

1. Agricultural emissions of particulates, odors, volatile organic compounds, and greenhouse gases;

2. Carbon sequestration in soil and through other mechanisms; and,

3. Bio-based energy opportunities.

D. Grazing Land and Forest Health

The objective of this conservation concern is to implement new technologies and/or approaches to maintain, restore, or enhance grazing land and forest health while sustaining productivity. Subtopics include:

1. Invasive species management on grazing and forest land;

2. Effects of pests, diseases, and fragmentation on forest and grazing land quality/health; and,

3. Systems or practices to minimize overgrazing and restore lands suffering effects of overgrazing.

E. Wildlife Habitat

The objective of this conservation concern is to implement new technologies and/or approaches for environmentally sound wildlife habitat management while sustaining agricultural productivity. Subtopics include:

1. Riparian area management and restoration;

2. Invasive species management;

3. Biodiversity; and,

4. Wetland function and health.

III. Eligibility

A. Organization or Individual Eligibility

CIG applicants must be a Federally-recognized Indian Tribe; State or local unit of government; non-governmental organization; or individual.

1. Payment Limitation—Section 1240G of the Food Security Act of 1985 (as amended by the Farm Security and Rural Investment Act of 2002), 16 U.S.C. 3839aa-7, imposes a $450,000 limitation for all cost-share or incentive payments disbursed to individuals or entities under an EQIP contract between 2002 and 2007. The limitation applies to CIG in the following manner:

a. CIG funds are awarded through grant agreements; these grant agreements are not EQIP contracts. Thus, CIG awards are not limited by the payment limitation.

b. Grant funds that are provided to an individual or entity to carry out structural, vegetative, or management practices count toward each individual's or entity's EQIP payment limitation. The procedures and policies of the EQIP (7 CFR 1466) will be followed to implement this payment limitation for CIG. NRCS will work with CIG grantees to ensure that the payment limitation is followed for all CIG projects.

2. Payment Limitation Examples—Following are three examples of how the $450,000 EQIP payment limitation applies to CIG projects:

a. A $500,000 CIG grant is awarded to a State environmental agency to demonstrate an innovative, market-based, water quality trading program. The money is used to finance the development of a market infrastructure, and none of the funds are used to implement structural, vegetative, or management practices. Producers in the trading market demonstration area may indirectly benefit from their eventual participation in the market, but there is no direct or indirect transfer of CIG dollars. If, on the other hand, part of the CIG award were used to provide funds to producers who implement a conservation practice on their land as part of a trading program, those payments would count towards each producer's $450,000 EQIP payment limitation.

b. A $1,000,000 CIG grant is awarded to a Conservation District to pilot a community-based animal waste treatment technology innovation. EQIP-eligible producers in the area transport their animal waste to a central treatment location. Because producers are not directly or indirectly receiving CIG funds, the payment limitation does not apply. If, however, the technology were to be installed on five producers' property for demonstration purposes, the CIG funds would count toward each producer's $450,000 EQIP payment limitation. Similarly, if the producers were paid for their waste, or for transporting their waste to the central treatment location, out of CIG funds, the payments would be subject to each producer's EQIP payment limitation.

c. An individual producer applying for a $500,000 CIG grant already has an EQIP contract for $100,000. The producer is awarded a grant to implement an innovative management practice, but the amount would be reduced to $350,000 maximum in order to comply with the EQIP payment limitation.

B. Project Eligibility

To be eligible, projects must involve landowners who meet the EQIP eligibility requirements of 16 U.S.C. 3839aa-1. Refer to http://www.nrcs.usda.gov/programs/eqip/ for more information on EQIP and eligibility requirements. Further, all agricultural producers participating in a CIG project must meet the EQIP eligibility requirements, but are not required to have an EQIP contract. Applications must describe the extent of participation of EQIP eligible producers.

Technologies and approaches that are eligible for funding in the project's geographic area through EQIP are ineligible for CIG funding. Applicants should reference each State's EQIP Eligible Practices List by contacting the NRCS State office, or by visiting the EQIP Web site: http://www.nrcs.usda.gov/programs/eqip/EQIP_signup/2004_EQIP/2004_EQIP.html. If an applicant believes a practice is innovative and should be eligible for funding through CIG, a justification describing the unique features of the practice should be included in the application.

Individual projects funded through CIG in Fiscal Year 2004 may not receive more than $1 million from NRCS. NRCS anticipates that the funding range for most projects will be between $75,000 and $500,000.

CIG will fund single- and multi-year projects, not to exceed three years. At the discretion of the Chief, a project may be allowed to extend up to a total of five years if special conditions exist. All requests and justifications for prolonging the duration of a project beyond three years must be included in the CIG application. The Chief will make decisions on such requests on a case-by-case basis.

The grantee is responsible for providing the technical assistance required to successfully implement and complete the project. NRCS will provide technical oversight for each project receiving an award.

C. Beginning and Limited Resource Farmers and Ranchers, and Indian Tribes

For the FY 2004 grant award process, up to 10 percent of the total funds available for CIG may be set-aside for applications from Beginning and Limited Resource Farmers and Ranchers, Indian Tribes, or community-based organizations comprised of or representing these entities. To compete for these set-aside funds, the applicant must make a declaration in the application as described in paragraph V.A.6. of this notice. Applications that are unsuccessful in the set-aside competition will be placed automatically in the general application pool for consideration. Funds not used in the set-aside pool will revert back into the general funding pool.

An exception regarding matching funds is made for projects funded out of the set-aside. Seventy-five percent of the required matching funds for such projects may derive from in-kind contributions. This exception is intended to help Beginning and Limited Resource Farmers or Ranchers and Indian Tribes meet the statutory requirements for receiving a Conservation Innovation Grant.

IV. Innovative Conservation Projects or Activities

For the purposes of CIG, the proposed innovative project or activity must encompass the development and field testing, evaluation, and implementation of:

• Conservation adoption incentive systems, including market-based systems; or,

• Promising conservation technologies, practices, systems, procedures, and approaches.

To be given priority consideration, the innovative project or activity:

• Will have been studied sufficiently to indicate a good probability for success;

• Demonstrates, tests, evaluates, or verifies environmental (soil, water, air, plants, and animal) effectiveness, utility, affordability, and usability in the field;

• Adapts conservation technologies, practices, systems, procedures, approaches, and incentive systems to improve performance, and encourage adoption;

• Introduces conservation systems, approaches, and procedures from another geographic area or agricultural sector; and,

• Adapts conservation technology, management, or incentive systems to improve performance.

V. Application and Submission Information

A. Application Materials

Applications must contain the information set forth below in order to receive consideration for a grant. Applicants should not assume prior knowledge on the part of NRCS or others as to the relative merits of the project described in the application. Applications must be submitted in the following format:

1. Cover Sheet: Applications must use Standard Form 424 as the cover sheet for each project proposal. Standard Form 424 can be downloaded from http://www.whitehouse.gov/omb/grants/sf424.pdf, or obtained from a NRCS State Office (a list of NRCS State Offices is provided in the appendix of this announcement).

2. Project Abstract: Each proposal must contain a summary of not more than one page that provides the following:

a. Project title;

b. Project duration (beginning and ending dates);

c. Name, address, telephone, e-mail, and other contact information for the project director;

d. Names and affiliations of project collaborators;

e. Estimated number of EQIP eligible producers involved in the project;

f. Project objectives;

g. Summary of the work to be performed;

h. Total project cost; and,

i. Total Federal funds requested.

3. Project Description: Each project must be completely and accurately described in no more than 10 typewritten, double-spaced pages, which must include the following:

a. Project background: Describe the history of, and need for, the proposed innovation. Provide evidence that the proposed innovation has been studied sufficiently to indicate a good probability for success of the project;

b. Project objectives: Be specific, using qualitative and quantitative measures, if possible, to describe the project's purpose and goals. Describe how, based on the description of innovative conservation projects and activities provided in section IV, the project is innovative;

c. Project methods: Describe clearly the methodology of the project and the tools or processes that will be used to implement the project;

d. Location and size of project or project area: Describe the location of the project and the relative size and scope (e.g., acres, farm types and demographics, etc.) of the project area. Provide a map, if possible;

e. Producer participation: Estimate the number of producers involved in the project, and describe the extent of their involvement;

f. Project action plan and timeline: Provide a table listing project actions, timeframes, and associated milestones through project completion. If the applicant is requesting a project extension beyond three years (to a total of five years), include a justification for the extension;

g. Project management: Give a detailed description of how the project will be organized and managed. Include a list of key project personnel, their relevant education or experience, and their anticipated contributions to the project. Explain the level of participation required in the project by government and non-government entities. Identify who will participate in monitoring and evaluating the project;

h. Benefits or results expected and transferability: Identify the results and benefits to be derived from the proposed project activities, and explain how the results will be measured. Be as specific and quantitative as possible. Identify project beneficiaries—for example, agricultural producers by type or region or sector; rural communities; municipalities. Explain how these entities will benefit. In addition, describe how results will be communicated to others via outreach activities; and,

i. Project evaluation: Describe the methodology or procedures to be followed to evaluate the project, determine technical feasibility, and quantify the results of the project for the final report. Grant recipients will be required to provide a quarterly report of progress and a final project report to NRCS. Instructions for submitting quarterly reports will be detailed in the grant agreement.

4. Budget Information: Use Standard Form 424A to document budget needs and provide a detailed narrative in support of the budget for the project. Standard Form 424A can be found at http://www.whitehouse.gov/omb/grants/sf424a.pdf, or obtained from a NRCS State Office. Itemize the costs necessary for successful completion of the proposed project. Indicate the total amount (both cash and in-kind) of non-Federal matching support that will be provided to the proposed project. In the budget narrative, identify the source, the amount, and the nature (cash or in-kind) of the matching funds. In-kind costs of equipment or project personnel cannot exceed 25 percent of the total project budget (except in the case of projects carried out by either a Beginning or Limited Resource Farmer or Rancher, or Indian Tribe, or a community-based organization comprised of or representing these entities—see paragraph III.C.). The remainder of the match must be provided in cash.

CIG funds may not be used to pay any of the following costs unless otherwise permitted by law, or approved in writing by the Authorized Departmental Officer in advance of incurring such costs:

a. Costs above the amount of funds authorized for the project;

b. Costs incurred prior to the effective date of the grant;

c. Costs incurred after the expiration date of the grant (including any approved no-cost extensions of time). However, grant funds may be expended after the expiration date to liquidate legitimate obligations incurred by the grantee on or before the expiration date;

d. Costs which lie outside the scope of the approved project and any amendments thereto;

e. Indirect costs of the grantee;

f. Entertainment costs, regardless of their apparent relationship to project objectives;

g. Compensation for injuries to persons, or damage to property arising out of project activities;

h. Consulting services performed by a Federal employee during official duty hours when such consulting services result in the payment of additional compensation to the employee; and,

i. Renovation or refurbishment of research or related spaces; the purchase or installation of fixed equipment in such spaces; and the planning, repair, rehabilitation, acquisition, or construction of buildings or facilities.

This list is not exhaustive. Questions regarding the allowances of particular items of cost should be directed to the contact person above.

5. Declaration of EQIP Eligibility: Applicants must make a declaration in writing that they, or parties involved in the project, are eligible for EQIP.

6. Declaration of Beginning Farmer or Rancher or Limited Resource Farmer or Rancher, or Indian Tribe: If an applicant wishes to compete in the 10 percent set-aside funding pool (see paragraph III.C. that describes the provision of a set-aside pool of funding for Beginning and Limited Resource Farmers or Ranchers, and Indian Tribes) and avail themselves of the in-kind contribution exception, applicants must make a declaration in writing of their status as a Beginning Farmer or Rancher or Limited Resource Farmer or Rancher, or Indian Tribe, or a community-based organization comprised of or representing these entities.

7. Environmental Evaluation: Each application must be accompanied by a completed environmental profile describing the anticipated environmental effects of the proposal. The required form is available at http://www.nrcs.usda.gov/programs/cig. Applicants may also request a form in writing or by e-mail. These profiles will be used to determine whether an Environmental Assessment (EA) or Environmental Impact Statement (EIS) is needed for any given project, prior to the awarding of grant funds. The applicant is responsible for the cost of an EA or EIS, should one be required. This cost may be counted as part of the grantee's in-kind contribution.

8. Supporting Documentation: At the applicant's option, provide any additional information necessary or useful to describe the project. The applicant may present any information that would emphasize the value of the project, its merits, and its contribution toward innovation within the stated natural resource concerns identified in this notice.

9. Certifications: All applications must include a signed Standard Form (SF) 424B—Assurances, Non-construction Programs. SF 424B may be found at: http://www.whitehouse.gov/omb/grants/sf424b.pdf, or contact a State NRCS office;

Applicants, by signing and submitting an application, assure and certify that they are in compliance with the following from 7 Code of Federal Register (CFR):

a. Part 3017, Governmentwide Debarment and Suspension (Nonprocurement) (http://www.access.gpo.gov/nara/cfr/waisidx_04/7cfr3017_04.html);

b. Part 3018, New Restrictions on Lobbying (http://www.access.gpo.gov/nara/cfr/waisidx_04/7cfr3018_04.html); and,

c. Part 3021, Governmentwide Requirements for Drug-Free Workplace (Financial Assistance) (http://www.access.gpo.gov/nara/cfr/waisidx_04/7cfr3021_04.html).

B. Submission of Proposal

Applications for project grants must be complete; incomplete applications will not be considered. If submitting proposals for more than one project, submit a separate, complete application package for each project. Applications are to be typewritten on 8½″ × 11″ white paper, double spaced, and on one side only. The text of the proposal must be typewritten in a font no smaller than 12-point, with one-inch margins. Applicants must submit one signed original and one copy of each project application. Each copy of the proposal must be stapled securely in the upper left hand corner. Hard copies must be accompanied by an electronic copy on a 3½-inch diskette or compact disc (CD). Electronic files must be either Microsoft Word or Acrobat (pdf) files. Applications submitted via facsimile or e-mail will not be accepted. Applications must be received at the address noted above by 5 p.m. EST on May 28, 2004. If that day falls on a Saturday, Sunday, or Federal holiday, applications will be accepted until the close of the next business day. A proposal's postmark date is not a factor in whether an application is received on time. The applicant assumes the risk of any delays in proposal delivery. Applicants are strongly encouraged to submit completed applications via overnight mail or delivery service to ensure timely receipt by NRCS. Receipt of all applications will be acknowledged by e-mail. Therefore, applicants are strongly encouraged to provide accurate e-mail addresses. If the applicant's e-mail address is not indicated, NRCS will acknowledge receipt of the application by letter. If the applicant does not receive an acknowledgment within 60 days of the submission deadline, please contact the program manager.

VI. Application Review Information

A. Proposal Review and Selection Process

Prior to technical review, each application will be screened for completeness. Incomplete applications, including those that do not meet eligibility requirements, will be eliminated from competition, and notification of elimination will be e-mailed or mailed to the applicant.

Applications meeting the requirements of this notice will be scored by a Peer Review Panel against the Criteria for Proposal Evaluation identified below. Scored applications will be forwarded to a Grant Review Board, which will certify the rankings from the peer review panels, and ensure that the proposal evaluations are consistent with program objectives. The Grant Review Board will make recommendations to the Chief for final selection and funding decisions. Applicants who have been selected will be notified by mail within ten business days of the final selection. Applicants whose proposals have not been selected will be notified within 15 business days of the final selection.

B. Criteria for Proposal Evaluation

Peer review panels will use the following criteria to evaluate project proposals. Each of the four criterion carries an equal weight of 25 percent.

1. Purpose and goals:

a. The purpose and goals of the project are clearly stated;

b. The project adheres to the natural resource conservation concerns for FY 2004 stated in this notice; and,

c. There is clear and significant potential for a positive and measurable outcome.

2. Soundness of approach or design:

a. The project adheres to the description of innovative projects or activities found in section IV of this notice;

b. Technical design and implementation strategy is based on sound science;

c. There is a good likelihood of project success;

d. The project substantively involves EQIP eligible producers; and,

e. The project promotes environmental enhancement and protection in conjunction with agricultural production.

3. Project management:

a. The proposal has clear milestones and timelines, designated staff, and demonstrates collaboration;

b. The project staff has the technical expertise needed to do the work;

c. The budget is reasonable and adequately justified; and,

d. The project leverages non-Federal matching funds of at least 50 percent, of which up to one-half (25 percent of total match) may be in-kind contributions (see paragraph III.C. regarding an exception to this guidance for Beginning and Limited Resource Farmers or Ranchers and Indian Tribes).

4. Transferability:

a. There is great potential to transfer the approach or technology to others and/or to other geographical areas; and,

b. The project will result in the development of technical or related materials (e.g., technical standards, technical notes, manuals, handbooks, software) that will help foster adoption of the innovative technology or approach by other producers, and in other geographic areas.

VII. Grant Agreement

The CCC, through NRCS, will use a grant agreement with selected applicants to document participation in the CIG component of EQIP. The grant agreement will include:

• The final project plan listing cooperators in the project, and identifying the grant applicant and the project manager;

• The project timelines and expected project completion date;

• The project progress and budget reporting requirements;

• Award amount and budget information;

• Requests for advance of funds or reimbursement;

• The role of NRCS technical oversight in the project;

• Reporting requirements;

• Changes in project plans; and

• Other requirements and terms deemed necessary by the CCC to protect the interests of the United States.

Neither the approval of any application nor the award of any grant agreement commits or obligates the United States to provide further support of a project or any portion thereof or implies any endorsement.

VIII. Patents and Inventions

Allocation of rights to patents and inventions shall be in accordance with USDA regulation 7 CFR 3019.36. This regulation provides that small businesses normally may retain the principal worldwide patent rights to any invention developed with USDA support. In accordance with 7 CFR 3019.2, this provision will also apply to commercial organizations for the purposes of CIG. USDA receives a royalty-free license for Federal Government use, reserves the right to require the patentee to license others in certain circumstances, and requires that anyone exclusively licensed to sell the invention in the United States must normally manufacture it domestically.

Signed in Washington, DC, on March 19, 2004.
Bruce I. Knight,
Vice President, Commodity Credit Corporation, Chief, Natural Resources Conservation Service.

Appendix

Natural Resources Conservation Service State Conservationists

Alabama: Robert N. Jones, 3381 Skyway Drive, Post Office Box 311, Auburn, AL 36830; phone: (334) 887-4500; fax: (334) 887-4552; robert.jones@al.usda.gov.

Alaska: Shirley Gammon, Atrium Building, Suite 100, 800 West Evergreen, Atrium Building, Suite 100, Palmer, AK 99645-6539; phone: (907) 761-7760; fax: (907) 761-7790; sgammon@ak.nrcs.usda.gov.

Arizona: Michael Somerville, Suite 800, 3003 North Central Avenue, Phoenix, AZ 85012-2945; phone: (602) 280-8808; fax: (602) 280-8809 or 8805; msomervi@az.nrcs.usda.gov.

Arkansas: Kalven L. Trice, Federal Building, Room 3416, 700 West Capitol Avenue, Little Rock, AR 72201-3228; phone: (501) 301-3100; fax: (501) 301-3194; kalven.trice@ar.usda.gov.

California: Charles W. Bell, Suite 4164, 430 G Street, Davis, California 95616-4164; phone: (530) 792-5600; fax: (530) 792-5790; charles.bell@ca.usda.gov.

Colorado: James Allen Green, Room E200C, 655 Parfet Street, Lakewood, CO 80215-5521; phone: (720) 544-2810; fax: (720) 544-2965; allen.green@co.usda.gov.

Connecticut: Margo L. Wallace, 344 Merrow Road, Tolland, Connecticut 06084; phone: (860) 871-4011; fax: (860) 871-4054; margo.wallace@ct.usda.gov.

Delaware: Ginger Murphy, Suite 101, 1203 College Park Drive, Suite 101, Dover, DE 19904-8713; phone: (302) 678-4160; fax: (302) 678-0843; ginger.murphy@de.usda.gov.

Florida: T. Niles Glasgow, 2614 NW. 43rd Street, Gainesville, FL 32606-6611, or Post Office Box 141510, Gainesville, FL 32606-6611; phone: (352) 338-9500; fax: (352) 338-9574; niles.glasgow@fl.usda.gov.

Georgia: Leonard Jordan, Federal Building, Stop 200, 355 East Hancock Avenue, Athens, GA 30601-2769; phone: (706) 546-2272; fax: (706) 546-2120; leonard.jordan@ga.usda.gov.

Guam: Joan B. Perry, Director, Pacific Basin Area, Suite 301, FHB Building, Suite 301 400 Route 8, Mongmong, G U 96910; phone: (671) 472-7490; fax: (671) 472-7288; joan.perry@pb.usda.gov.

Hawaii: Lawrence Yamamoto, Acting, Room 4-118, 300 Ala Moana Boulevard, Post Office Box 50004, Honolulu, HI 96850-0002; phone: (808) 541-2600; fax: (808) 541-1335; lyamamoto@hi.nrcs.usda.gov.

Idaho: Richard W. Sims, Suite C, 9173 West Barnes Drive, Boise, ID 83709; phone: (208) 378-5700; fax: (208) 378-5735; richard.sims@id.usda.gov.

Illinois: William J. Gradle, 2118 W. Park Court, Champaign, IL 61821; phone: (217) 353-6600; fax: (217) 353-6676; bill.gradle@il.usda.gov.

Indiana: Jane E. Hardisty, 6013 Lakeside Boulevard, Indianapolis, IN 46278-2933; phone: (317) 290-3200; fax: (317) 290-3225; jane.hardisty@in.usda.gov.

Iowa: Leroy Brown, 693 Federal Building, Suite 693, 210 Walnut Street, Des Moines, IA 50309-2180; phone: (515) 284-6655; fax: (515) 284-4394; leroy.brown@ia.usda.gov.

Kansas: Harold Klaege, 760 South Broadway, Salina, KS 67401-4642; phone: (785) 823-4565; fax: (785) 823-4540; harold.klaege@ks.usda.gov.

Kentucky: David G. Sawyer, Suite 110, 771 Corporate Drive, Lexington, KY 40503-5479; phone: (859) 224-7350; fax: (859) 224-7399; dsawyer@ky.usda.gov.

Louisiana: Donald W. Gohmert, 3737 Government Street, Alexandria, LA 71302; phone: (318) 473-7751; fax: (318) 473-7626; don.gohmert@la.usda.gov.

Maine: Joyce Swartzendruber, Suite 3, 967 Illinois Avenue, Bangor, ME 04401; phone: (207) 990-9100, ext. 3; fax: (207) 990-9599; joyce.swartzendruber@me.usda.gov.

Maryland: David P. Doss, John Hanson Business Center, Suite 301, 339 Busch's Frontage Road, Annapolis, MD 21401-5534; phone: (410) 757-0861; fax: (410) 757-0687; david.doss@md.usda.gov.

Massachusetts: Cecil B. Currin, 451 West Street, Amherst, MA 01002-2995; phone: (413) 253-4351; fax: (413) 253-4375; cecil.currin@ma.usda.gov.

Michigan: Ronald C. Williams, Suite 250, 3001 Coolidge Road, East Lansing, MI 48823-6350; phone: (517) 324-5270; fax: (517) 324-5171; ron.williams@mi.usda.gov.

Minnesota: William Hunt, Suite 600, 375 Jackson Street, St. Paul, MN 55101-1854; phone: (651) 602-7900; fax: (651) 602-7913 or 7914; william.hunt@mn.usda.gov.

Mississippi: Homer L. Wilkes, Suite 1321, Federal Building, 100 West Capitol Street, Jackson, MS 39269-1399; phone: (601) 965-5205; fax: (601) 965-4940; hwilkes@ms.nrcs.usda.gov.

Missouri: Roger A. Hansen, Parkade Center, Suite 250, 601 Business Loop 70, West Columbia, MO 65203-2546; phone: (573) 876-0901; fax: (573) 876-0913; roger.hansen@mo.usda.gov.

Montana: David White, Federal Building, Room 443, 10 East Babcock Street, Bozeman, MT 59715-4704; phone: (406) 587-6811; fax: (406) 587-6761; dwhite@mt.nrcs.usda.gov.

Nebraska: Stephen K. Chick, Federal Building, Room 152, 100 Centennial Mall, North Lincoln, NE 68508-3866 phone: (402) 437-5300; fax: (402) 437-5327; steve.chick@ne.usda.gov.

Nevada: Livia Marques, Building F, Suite 201, 5301 Longley Lane, Reno, NV 89511-1805; phone: (775) 784-5863; fax: (775) 784-5939; livia.marques@nv.usda.gov.

New Hampshire: Richard D. Babcock, Federal Building, 2 Madbury Road, Durham, NH 03824-2043; phone: (603) 868-7581; fax: (603) 868-5301; richard.babcock@nh.nrcs.usda.gov.

New Jersey: Anthony J. Kramer, 220 Davidson Avenue, 4th Floor, Somerset, NJ 08873-3157; phone: (732) 537-6040; fax: (732) 537-6095; tkramer@nj.nrcs.usda.gov.

New Mexico: Rosendo Trevino III, Suite 305, 6200 Jefferson Street, NE., Albuquerque, NM 87109-3734; phone: (505) 761-4400; fax: (505) 761-4462; rosendo.trevino@nm.usda.gov.

New York: Joseph R. DelVecchio, Suite 354, 441 South Salina Street, Syracuse, NY 13202-2450; phone: (315) 477-6504; fax: (315) 477-6550; joseph.delvecchio@ny.usda.gov.

North Carolina: Mary K. Combs, Suite 205, 4405 Bland Road, Raleigh, NC 27609-6293; phone: (919) 873-2101; fax: (919) 873-2156; mary.combs@nc.usda.gov.

North Dakota: Serapio Flores, Jr., Room 278, 220 E. Rosser Avenue, Post Office Box 1458, Bismarck, ND 58502-1458; phone: (701) 530-2000; fax: (701) 530-2110; serapio.flores@nd.usda.gov.

Ohio: J. Kevin Brown, Room 522, 200 North High Street, Columbus, OH 43215-2478; phone: (614) 255-2500; fax: (614) 255-2548; kevin.brown@oh.usda.gov.

Oklahoma: M. Darrel Dominick, USDA Agri-Center Building, Suite 206, 100 USDA, Stillwater, Oklahoma 74074-2655; phone: (405) 742-1204; fax: (405) 742-1126; darrel.dominick@ok.usda.gov.

Oregon: Robert Graham, Suite 1300, 101 SW Main Street, Portland, OR 97204-3221; phone: (503) 414-3200; fax: (503) 414-3103; bob.graham@or.usda.gov.

Pennsylvania: Robin E. Heard, Suite 340, 1 Credit Union Place, Harrisburg, PA 17110-2993; phone: (717) 237-2202; fax: (717) 237-2238; robin.heard@pa.usda.gov.

Puerto Rico: Juan A. Martinez, Director, Caribbean Area, IBM Building, Suite 604, 654 Munoz Rivera Avenue, Hato Rey, PR 00918-4123; phone: (787) 766-5206; fax: (787) 766-5987; juan.martinez@pr.usda.gov.

Rhode Island: Judith Doerner, Suite 46, 60 Quaker Lane, Warwick, RI 02886-0111; phone: (401) 828-1300; fax: (401) 828-0433; judith.doerner@ri.usda.gov.

South Carolina: Walter W. Douglas, Strom Thurmond Federal Building, Room 950, 1835 Assembly Street, Columbia, SC 29201-2489; phone: (803) 253-3935; fax: (803) 253-3670; walt.douglas@sc.usda.gov.

South Dakota: Janet L. Oertly, Federal Building, Room 203, 200 Fourth Street, SW., Huron, SD 57350-2475; phone: (605) 352-1200; fax: (605) 352-1288; janet.oertly@sd.nrcs.usda.gov.

Tennessee: James W. Ford, 675 U.S. Courthouse, 801 Broadway, Nashville, TN 37203-3878; phone: (615) 277-2531; fax: (615) 277-2578; jford@tn.nrcs.usda.gov.

Texas: Lawrence Butler, W.R. Poage Building, 101 South Main Street, Temple, TX 76501-7602; phone: (254) 742-9800; fax: (254) 742-9819; larry.butler@tx.usda.gov.

Utah: Harry Slawter, Acting, W.F. Bennett Federal Building, Room 4402, 125 South State Street, Salt Lake City, UT 84138, Post Office Box 11350, Salt Lake City, UT 84147-0350, phone: (801) 524-4550, fax: (801) 524-4403; harry.slawter@ut.usda.gov.

Vermont: Francis M. Keeler, 356 Mountain View Drive, Suite 105, Colchester, VT 05446; phone: (802) 951-6795; fax: (802) 951-6327; fran.keeler@vt.usda.gov.

Virginia: M. Denise Doetzer, Culpeper Building, Suite 209, 1606 Santa Rosa Road, Richmond, VA 23229-5014; phone: (804) 287-1691; fax: (804) 287-1737; denise.doetzer@va.usda.gov.

Washington: Raymond L. “Gus” Hughbanks, Rock Pointe Tower II, Suite 450, W. 316 Boone Avenue, Spokane, WA 99201-2348; phone: (509) 323-2900; fax: (509) 323-2909; raymond.hughbanks@wa.usda.gov.

West Virginia: Lillian V. Woods, Room 301, 75 High Street, Morgantown, WV 26505; phone: (304) 284-7540; fax: (304) 284-4839; lillian.woods@wv.usda.gov.

Wisconsin: Patricia S. Leavenworth, 8030 Excelsior Drive, Suite 200, Madison, WI 53717; phone: (608) 662-4422; fax: (608) 662-4430; pat.leavenworth@wi.usda.gov.

Wyoming: Lincoln E. Burton, Federal Building, Room 3124, 100 East B Street, Casper, WY 82601-1911; phone: (307) 261-6453; fax: (307) 261-6490; ed.burton@wy.usda.gov.

[FR Doc. 04-6935 Filed 3-26-04; 8:45 am]

BILLING CODE 3410-16-P